NUCLEAR REGULATORY COMMISSION

10 CFR Part 9

[NRC-2017-0144]

RIN 3150-AK06

Update to Fees for Search and Review of Agency Records by NRC Personnel

AGENCY: Nuclear Regulatory Commission.

ACTION: Direct final rule; confirmation of effective date.

SUMMARY: The U.S. Nuclear Regulatory Commission (NRC) is confirming the effective date of March 4, 2019, for the direct final rule that was published in the Federal Register on December 19, 2018. This direct final rule revised the fees charged for search and review of agency records by NRC personnel in response to certain Freedom of Information Act requests.

DATES: Effective date: The effective date of March 4, 2019, for the direct final rule published December 19, 2018 (83 FR 65075), is confirmed.

ADDRESSES: Please refer to Docket ID NRC-2017-0144 when contacting the NRC about the availability of information for this action. You may obtain publicly-available information related to this action by any of the following methods:

• Federal Rulemaking Website: Go to http://www.regulations.gov and search for Docket ID NRC-2017-0144. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Stephanie Blaney, Office of the Chief Information Officer, U.S. Nuclear Regulatory Commission, Washington, DC 20555-0001; telephone: 301-415-6975; email: Stephanie.Blaney@nrc.gov.

SUPPLEMENTARY INFORMATION: On December 19, 2018 (83 FR 65075), the NRC published a direct final rule amending its regulations in part 9 of title 10 of the Code of Federal Regulations to revise the fees charged for search and review of agency records by NRC personnel in response to certain Freedom of Information Act requests. These revisions were made to ensure the NRC recovers direct costs of these activities as required by the Freedom of Information Act. In the direct final rule, the NRC stated that if no significant adverse comments were received, the direct final rule would become effective on March 4, 2019. The NRC did not receive any comments on the direct final rule. Therefore, this direct final rule will become effective as scheduled.

Dated at Rockville, Maryland, this 5th day of February 2019.
For the Nuclear Regulatory Commission.
Cindy K. Bladey,
Chief, Regulatory Analysis and Rulemaking Support Branch, Division of Rulemaking, Office of Nuclear Material Safety and Safeguards.

[FR Doc. 2019-01707 Filed 2-8-19; 8:45 am]

BILLING CODE 7590-01-P